DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's List of Specially Designated Nationals and Blocked Persons (SDN List) based on OFAC's determination that one or more applicable legal criteria were satisfied. All property and interests in property subject to U.S. jurisdiction of these persons are blocked, and U.S. persons are generally prohibited from engaging in transactions with them.

DATES: This action was issued on October 11, 2024. See SUPPLEMENTARY INFORMATION for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On October 11, 2024, OFAC determined that the property and interests in property subject to U.S. jurisdiction of the following persons and vessels are blocked under the relevant sanctions authority listed below.

BILLING CODE 4810-AL-P

BILLING CODE 4810-AL-C

Vessels

1. ANHONA (V3GK3) Oil Products Tanker Belize flag; Vessel Registration Identification IMO 9354521; MMSI 312171000 (vessel) [IRAN-EO13846] (Linked To: HARRY VICTOR SHIP MANAGEMENT AND OPERATION L.L.C).

Identified pursuant to E.O. 13846, as property in which HARRY VICTOR SHIP MANAGEMENT AND OPERATION L.L.C, a person whose property and interests in property are blocked pursuant to E.O. 13846, has an interest.

2. GOODWIN (E5U5022) Crude Oil Tanker Cook Islands flag; Vessel Registration Identification IMO 9379703; MMSI 518999041 (vessel) [IRAN-EO13846] (Linked To: HARRY VICTOR SHIP MANAGEMENT AND OPERATION L.L.C).

Identified pursuant to E.O. 13846, as property in which HARRY VICTOR SHIP MANAGEMENT AND OPERATION L.L.C, a person whose property and interests in property are blocked pursuant to E.O. 13846, has an interest.

3. SPIRIT OF CASPER (a.k.a. MARIA GRACE) (3E6116) Crude Oil Tanker Panama flag; Vessel Registration Identification IMO 9224271; MMSI 352003872 (vessel) [IRAN-EO13846] (Linked To: RITA SHIPPING INC).

Identified pursuant to E.O. 13846, as property in which RITA SHIPPING INC, a person whose property and interests in property are blocked pursuant to E.O. 13846, has an interest.

4. WEN YAO (E5U5189) Crude Oil Tanker Cook Islands flag; Vessel Registration Identification IMO 9288095; MMSI 518999208 (vessel) [IRAN-EO13846] (Linked To: HARRY VICTOR SHIP MANAGEMENT AND OPERATION L.L.C).

Identified pursuant to E.O. 13846, as property in which HARRY VICTOR SHIP MANAGEMENT AND OPERATION L.L.C, a person whose property and interests in property are blocked pursuant to E.O. 13846, has an interest.

5. BENDIGO (a.k.a. LEONOR) (8P2397) Crude Oil Tanker Barbados flag; Vessel Registration Identification IMO 9289491; MMSI 314925000 (vessel) [IRAN-EO13846] (Linked To: MAX MARITIME SOLUTIONS FZE).

Identified pursuant to E.O. 13846, as property in which MAX MARITIME SOLUTIONS FZE, a person whose property and interests in property are blocked pursuant to E.O. 13846, has an interest.

6. CARNATIC (a.k.a. ANNICK; a.k.a. KIONI; a.k.a. TOBA) (8P2398) Crude Oil Tanker Barbados flag; Vessel Registration Identification IMO 9304655; MMSI 314926000 (vessel) [IRAN-EO13846] (Linked To: MAX MARITIME SOLUTIONS FZE).

Identified pursuant to E.O. 13846, as property in which MAX MARITIME SOLUTIONS FZE, a person whose property and interests in property are blocked pursuant to E.O. 13846, has an interest.

7. SALVIA (a.k.a. YANNIS) (T7BJ6) Crude Oil Tanker San Marino flag; Vessel Registration Identification IMO 9297319; MMSI 268240702 (vessel) [IRAN-EO13846] (Linked To: MAX MARITIME SOLUTIONS FZE).

Identified pursuant to E.O. 13846, as property in which MAX MARITIME SOLUTIONS FZE, a person whose property and interests in property are blocked pursuant to E.O. 13846, has an interest.

8. DAVINA (T8A4843) Crude Oil Tanker Palau flag; Vessel Registration Identification IMO 9259367; MMSI 511101471 (vessel) [IRAN-EO13846] (Linked To: DAVINA SHIPPING INC).

Identified pursuant to E.O. 13846, as property in which DAVINA SHIPPING INC, a person whose property and interests in property are blocked pursuant to E.O. 13846, has an interest.

9. LUNA PRIME (a.k.a. SELENE) (3E2167) Crude Oil Tanker Panama flag; Vessel Registration Identification IMO 9174220; MMSI 352001994 (vessel) [IRAN-EO13846] (Linked To: CATHAY HARVEST MARINE LTD).

Identified pursuant to E.O. 13846, as property in which CATHAY HARVEST MARINE LTD, a person whose property and interests in property are blocked pursuant to E.O. 13846, has an interest.

10. CARINA (8P2232) Crude Oil Tanker Barbados flag; Vessel Registration Identification IMO 9240512; MMSI 314872000 (vessel) [IRAN-EO13846] (Linked To: DERECTTOR COMPANY LIMITED).

Identified pursuant to E.O. 13846, as property in which DERECTTOR COMPANY LIMITED, a person whose property and interests in property are blocked pursuant to E.O. 13846, has an interest.

11. CRYSTAL ROSE (3E4037) Crude Oil Tanker Panama flag; Vessel Registration Identification IMO 9292228; MMSI 352001298 (vessel) [IRAN-EO13846] (Linked To: DERECTTOR COMPANY LIMITED).

Identified pursuant to E.O. 13846, as property in which DERECTTOR COMPANY LIMITED, a person whose property and interests in property are blocked pursuant to E.O. 13846, has an interest.

12. CROSS OCEAN (3E4640) Crude Oil Tanker Panama flag; Vessel Registration Identification IMO 9251810; MMSI 352002860 (vessel) [IRAN-EO13846] (Linked To: DELNAZ SHIP MANAGEMENT SDN BHD).

Identified pursuant to E.O. 13846, as property in which DELNAZ SHIP MANAGEMENT SDN BHD, a person whose property and interests in property are blocked pursuant to E.O. 13846, has an interest.

13. DIMITRA II (T7BI5) Crude Oil Tanker San Marino flag; Vessel Registration Identification IMO 9208215; MMSI 268249801 (vessel) [IRAN-EO13846] (Linked To: DELNAZ SHIP MANAGEMENT SDN BHD).

Identified pursuant to E.O. 13846, as property in which DELNAZ SHIP MANAGEMENT SDN BHD, a person whose property and interests in property are blocked pursuant to E.O. 13846, has an interest.

14. SATINA (3E2250) Products Tanker Panama flag; Vessel Registration Identification IMO 9308778; MMSI 352002316 (vessel) [IRAN-EO13846] (Linked To: DELNAZ SHIP MANAGEMENT SDN BHD).

Identified pursuant to E.O. 13846, as property in which DELNAZ SHIP MANAGEMENT SDN BHD, a person whose property and interests in property are blocked pursuant to E.O. 13846, has an interest.

15. TYCHE I (3E5017) Crude Oil Tanker Panama flag; Vessel Registration Identification IMO 9247390; MMSI 352002704 (vessel) [IRAN-EO13846] (Linked To: DELNAZ SHIP MANAGEMENT SDN BHD).

Identified pursuant to E.O. 13846, as property in which DELNAZ SHIP MANAGEMENT SDN BHD, a person whose property and interests in property are blocked pursuant to E.O. 13846, has an interest.

16. ELZA (D5SE4) Crude Oil Tanker Liberia flag; Vessel Registration Identification IMO 9221671; MMSI 636018950 (vessel) [IRAN-EO13846] (Linked To: ELZA SHIPPING SA).

Identified pursuant to E.O. 13846, as property in which ELZA SHIPPING SA, a person whose property and interests in property are blocked pursuant to E.O. 13846, has an interest.

17. AVENTUS I (3E2078) Crude Oil Tanker Panama flag; Vessel Registration Identification IMO 9280873; MMSI 352898820 (vessel) [IRAN-EO13846] (Linked To: DIAMANTE TANKERS INCORPORATED).

Identified pursuant to E.O. 13846, as property in which DIAMANTE TANKERS INCORPORATED, a person whose property and interests in property are blocked pursuant to E.O. 13846, has an interest.

Lisa M. Palluconi,
Acting Director, Office of Foreign Assets Control.

[FR Doc. 2024-24221 Filed 10-18-24; 8:45 am]

BILLING CODE 4810-AL-P